DEPARTMENT OF COMMERCE

National Oceanic and Atmospheric Administration

[RTID 0648-XA744]

North Pacific Fishery Management Council; Public Meeting

AGENCY: National Marine Fisheries Service (NMFS), National Oceanic and Atmospheric Administration (NOAA), Commerce.

ACTION: Notice of web conference.

SUMMARY: The North Pacific Fishery Management Council (Council) Crab Plan Team will meet January 11, 2021 through January 14, 2021.

DATES: The meeting will be held on Monday, January 11, 2021 through Wednesday, January 13, 2021, from 8 a.m. to 4 p.m., and from 8 a.m. to 11 a.m. on Thursday, January 14, 2021 Alaska Time.

ADDRESSES: The meeting will be a web conference. Join online through the link at https://meetings.npfmc.org/Meeting/Details/1845.

Council address: North Pacific Fishery Management Council, 1007 W 3rd Ave., Anchorage, AK 99501-2252; telephone: (907) 271-2809. Instructions for attending the meeting via video conference are given under SUPPLEMENTARY INFORMATION.

FOR FURTHER INFORMATION CONTACT: Jim Armstrong, Council staff; phone; (907) 271-2809; email: james.armstrong@noaa.gov. For technical support please contact our admin Council staff, email: npfmc.admin@noaa.gov.

SUPPLEMENTARY INFORMATION:

Agenda

Monday, January 11, 2021 Through Thursday, January 14, 2021

The Crab Plan Team will review the final 2021 stock assessment for Norton Sound red king crab. Additionally the Crab Plan Team will discuss model scenarios for the May 2021 stock assessment for Aleutian Island golden king crab, the 2021 crab survey, a crab risk matrix, VAST modeling, the 2020 economic SAFE report, crab bycatch, a range of crab research topics, plans for the Team's May 2021 meeting, and a workshop discussion of crab stock assessment challenges within the GMACS modeling framework. The agenda is subject to change, and the latest version will be posted at https://meetings.npfmc.org/Meeting/Details/1845 prior to the meeting, along with meeting materials.

Connection Information

You can attend the meeting online using a computer, tablet, or smart phone; or by phone only. Connection information will be posted online at: https://meetings.npfmc.org/Meeting/Details/1845.

Public Comment

Public comment letters will be accepted and should be submitted electronically to https://meetings.npfmc.org/Meeting/Details/1845.

Authority: 16 U.S.C. 1801 et seq.

Dated: December 31, 2020.
Rey Israel Marquez,
Acting Deputy Director, Office of Sustainable Fisheries, National Marine Fisheries Service.

[FR Doc. 2020-29242 Filed 1-5-21; 8:45 am]

BILLING CODE 3510-22-P